DEPARTMENT OF JUSTICE

Drug Enforcement Administration

Manufacturer of Controlled Substances; Notice of Registration; Correction

By Notice dated March 5, 2004, and published in the Federal Register on March 15, 2004, (69 FR 12179), Mallinckrodt Inc., Mallinckrodt & Second Streets, St. Louis, Missouri 63147, made application by renewal to the Drug Enforcement Administration (DEA) to be registered as a bulk manufacturer of Morphine (9300), a basic class of Schedule II controlled substance. The drug code was inadvertently dropped during the preparation of the Notice of Registration dated July 28, 2004 and published in the Federal Register on August 18, 2004 (69 FR 51331).

The company plans to manufacture the basic class of controlled substance for internal use and for sale to other companies.

No comments or objections have been received. DEA has considered the factors in 21 U.S.C. 823(a) and determined that the registration of Mallinckrodt Inc. to manufacture Morphine is consistent with the public interest at this time. DEA has investigated Mallinckrodt Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of Morphine (9300).

Dated: September 16, 2004.
William J. Walker,
Deputy Assistant Administrator, Office of Diversion Control, Drug Enforcement Administration.

[FR Doc. 04-21941 Filed 9-29-04; 8:45 am]

BILLING CODE 4410-09-M